DEPARTMENT OF HEALTH AND HUMAN SERVICES

Centers for Disease Control and Prevention

[Docket Number: NIOSH 232]

Board of Scientific Counselors, National Institute for Occupational Safety and Health (BSC, NIOSH) National Firefighter Registry Subcommittee; Amended Notice of Meeting

Notice is hereby given of a change in the meeting of the Board of Scientific Counselors, National Institute for Occupational Safety and Health (BSC, NIOSH) National Firefighter Registry Subcommittee; May 15, 2020, 11:15 a.m. to 12:00 p.m., EDT, in the original FRN.

The web conference access https://niosh-connect.adobeconnect.com/nfrs/event/event_info.html and the teleconference access (855) 644-0229, and participant pass code 9777483 which was published in the Federal Register on April 7, 2020, Volume 85, Number 67, page 19486, is being amended to announce the change in the URL to access the meeting of the BSC, NIOSH Subcommittee for the National Firefighter Registry. The notice should read as follows:

SUMMARY: In accordance with the Federal Advisory Committee Act, the CDC announces the following meeting of the Board of Scientific Counselors (BSC), National Institute for Occupational Safety and Health (NIOSH), National Firefighter Registry Subcommittee. This meeting is open to the public via webcast and by teleconference. If you wish to attend by webcast or teleconference, please register at the NIOSH website https://www.cdc.gov/niosh/bsc/nfrs/registration.html or call (513-841-4203) at least five business days in advance of the meeting. Adobe Connect webcast will be available at https://odniosh.adobeconnect.com/nfrs/ for participants wanting to connect remotely, and teleconference is available toll-free at (855) 644-0229, Participant Pass Code 9777483. This meeting is open to the public, limited only by the number of adobe license seats available, which is 100. The public is welcome to participate during the public comment period, from 11:15 a.m. to 12:00 p.m., EDT, on May 15, 2020. Please note that the public comment period ends at the time indicated above.

DATES: The meeting will be held on May 15, 2020, from 10:00 a.m. to 5:00 p.m., EDT.

ADDRESSES: Adobe Connect webcast will be available at https://odniosh.adobeconnect.com/nfrs/ for participants wanting to connect remotely, and teleconference is available toll-free at (855) 644-0229, Participant Pass Code 9777483.

The meeting is open to the public.

FOR FURTHER INFORMATION CONTACT: Paul J. Middendorf, Ph.D., Executive Secretary, National Firefighter Registry Subcommittee of the NIOSH Board of Scientific Counselors, NIOSH, CDC, 2400 Century Parkway NE, MS V24-4, Atlanta, GA 30345, telephone (404) 498-6439, or email at pmiddendorf@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-10283 Filed 5-12-20; 8:45 am]

BILLING CODE 4163-18-P